DEPARTMENT OF ENERGY

Office of Energy Efficiency and Renewable Energy

Demonstration and Deployment Bioenergy Workshop

AGENCY: Office of Energy Efficiency and Renewable Energy, Department of Energy (DOE).

ACTION: Notice of Open Meeting: Demonstration and Deployment Bioenergy Workshop.

SUMMARY: The Department of Energy (DOE) today gives notice of a workshop hosted by the Bioenergy Technologies Office's (BETO's) Demonstration and Deployment Program to discuss the current state of technology and efforts needed to achieve affordable, scalable, and sustainable drop-in hydrocarbon biofuels.

DATES: March 12-13, 2014.

ADDRESSES: Argonne National Laboratory, 9700 S. Cass Avenue, Bldg. 402, APS (Advanced Photon Source) Auditorium, Lemont, IL.

FOR FURTHER INFORMATION CONTACT: Questions may be directed to—Stephanie Nimmagadda at (720) 356-1279 or by email at Stephanie.Nimmagadda@go.doe.gov.

SUPPLEMENTARY INFORMATION: As the bioenergy industry begins to advance commercial-scale cellulosic ethanol technologies, BETO wants to identify the next step(s) in drop-in hydrocarbon biofuel production. This workshop is intended to discuss, reassess, and prioritize demonstration and deployment efforts needed to realize affordable, scalable, and sustainable hydrocarbon biofuels. The workshop will convene university, national laboratory, industry, advocacy, government and other stakeholders to consider the following questions:

• What is the state of technology regarding the deployment of hydrocarbon biofuels, as well as supportive bioproducts and biopower?

• What are the current technical, conversion, feedstock and logistics, and market barriers to deploying hydrocarbon biofuels?

• What are priority strategies for overcoming such technical barriers?

These discussions will inform DOE's demonstration and deployment strategy, and the results will be presented at a breakout session during the annual Biomass 2014 conference July 29-30th. The workshop will include sessions on past demonstration and deployment successes, lessons learned, goals, research strategies, and facilitated breakout sessions.

Dated: Issued in Golden, CO, on January 17, 2014.
Nicole Blackstone,
Contracting Officer.

[FR Doc. 2014-02268 Filed 2-3-14; 8:45 am]

BILLING CODE 6450-01-P